DEPARTMENT OF THE TREASURY

Community Development Financial Institutions Fund; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”) within the Department of the Treasury is soliciting comments concerning the Bank Enterprise Award (“BEA”) Program Application.

DATES: Written comments should be received on or before November 3, 2008 to be assured of consideration.

ADDRESSES: Direct all comments to Jodie Harris, Depository Institutions Program Advisor, at the Community Development Financial Institutions Fund, U.S. Department of the Treasury, 601 13th Street, NW., Suite 200 South, Washington, DC 20005, by e-mail to cdfihelp@cdfi.treas.gov or by facsimile to (202) 622-7754. This is not a toll free number.

FOR FURTHER INFORMATION CONTACT: The BEA Program application may be obtained from the BEA page of the Fund's Web site at http://www.cdfifund.gov. Requests for additional information should be directed to Jodie Harris, Depository Institutions Program Advisor, Community Development Financial Institutions Fund, U.S. Department of the Treasury, 601 13th Street, NW., Suite 200 South, Washington, DC 20005, or call (202) 622-6355. This is not a toll free number.

SUPPLEMENTARY INFORMATION: Title: Bank Enterprise Award Program Application.

OMB Number: 1559-0005.

Abstract: The purpose of the BEA Program is to provide an incentive to insured depository institutions to increase their activities in the form of loans, investments, services, and technical assistance, within distressed communities and provide financial assistance to community development financial institutions through grants, stock purchases, loans, deposits, and other forms of financial and technical assistance. The Fund will make awards through the BEA Program to insured depository institutions, based upon such institutions' completion of certain qualified activities, as reported in the application. The application will solicit information concerning: applicants' eligibility to participate in the BEA Program; the quantity (value) of applicants' activities, and the extent to which such activities may be qualified activities; and appropriate supporting documentation. The questions that the application contains, and the information generated thereby, will enable the Fund to evaluate applicants' activities and determine the extent of applicants' eligibility for a BEA Program award.

Current Actions: New collection.

Type of Review: Regular review.

Affected Public: Insured depository institutions.

Estimated Number of Respondents: 60.

Estimated Annual Time per Respondent: 15 hours.

Estimated Total Annual Burden Hours: 900 hours.

Requests for Comments: Comments submitted in response to this notice will be summarized and/or included in the request for Office of Management and Budget approval. All comments will become a matter of public record and will be published on the CDFI Fund Web site at http://www.cdfifund.gov. Comments are invited on: (a) Whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 1834a, 4703, 4703 note, 4713, 4717; 31 U.S.C 321; 12 CFR part 1806.

Dated: August 25, 2008.
Donna J. Gambrell,
Director, Community Development Financial Institutions Fund.

[FR Doc. E8-20182 Filed 8-29-08; 8:45 am]

BILLING CODE 4810-70-P